DEPARTMENT OF DEFENSE

Department of the Navy

Notice of Intent To Grant Exclusive Patent License Agreement; OxiCool, Inc.

AGENCY: Department of the Navy, DoD.

ACTION: Notice.

SUMMARY: The Department of the Navy gives notice of its intent to grant to OxiCool, Inc., of 4747 South Broad Street, The Navy Yard, Building 101, Suite LL40, Philadelphia, PA 19112-103, a revocable, nonassignable, exclusive license, in all fields of use on commercial and residential air conditioning systems, to practice in the United States, the Government-Owned invention, as identified in U.S. Patent Number 7,836,732 b2: Air Conditioning System, issued on November 23, 2010.

DATES: Anyone wishing to object to granting of this license must file written objections along with supporting evidence, if any, not later than August 23, 2011.

ADDRESSES: Written objections are to be filed with the Naval Air Warfare Center Aircraft Division, Office of Research and Technology Applications, Attn: Mr. Paul Fritz, Building 505, Room 117, 22473 Millstone Road, Patuxent River, MD 20670.

FOR FURTHER INFORMATION CONTACT: Mr. Paul Fritz, Naval Air Warfare Center, Office of Research and Technology Applications, Building 505, Room 117, 22473 Millstone Road, Patuxent River, MD 20670.

Authority: 35 U.S.C. 207, 37 CFR part 404.

Dated: August 2, 2011.
L.M. Senay,
Lieutenant, Judge Advocate General's Corps, U.S. Navy, Federal Register Liaison Officer.

[FR Doc. 2011-20034 Filed 8-5-11; 8:45 am]

BILLING CODE 3810-FF-P